DEPARTMENT OF COMMERCE

International Trade Administration

[C-533-884]

Glycine From India: Final Results of Countervailing Duty Administrative Review; 2021

AGENCY: Enforcement and Compliance, International Trade Administration, Department of Commerce.

SUMMARY: The U.S. Department of Commerce (Commerce) determines that Kumar Industries, India (Kumar), a producer/exporter of glycine from India, received countervailable subsidies during the period of review (POR), January 1, 2021, through December 31, 2021.

DATES: Applicable January 2, 2024.

FOR FURTHER INFORMATION CONTACT: Scarlet Jaldin or Harrison Tanchuck AD/CVD Operations, Office VI, Enforcement and Compliance, International Trade Administration, U.S. Department of Commerce, 1401 Constitution Avenue NW, Washington, DC 20230; telephone: (202) 482-4275 or (202) 482-7421, respectively.

SUPPLEMENTARY INFORMATION:

Background

On June 30, 2023, Commerce published the Preliminary Results of this administrative review in the Federal Register and invited interest parties to comment.¹ On September 22, 2023, Commerce extended the deadline for issuing these final results to December 15, 2023.² On December 15, 2023, we further extended the deadline for these final results to December 27, 2023.³ We received timely-filed case briefs from GEO Specialty Chemicals, Inc. (the petitioner),⁴ the Government of India (GOI),⁵ and the mandatory respondent in this review, Kumar Industries, India (Kumar).⁶ We received timely-filed rebuttal briefs from the petitioner ⁷ and Kumar.⁸ For a complete description of the events that occurred since the publication of the Preliminary Results, see the Issues and Decision Memorandum.⁹

¹ See Glycine from India: Preliminary Results of Countervailing Duty Administrative Review and Rescission, in Part; 2021, 88 FR 42298 (June 30, 2023) (Preliminary Results), and accompanying Preliminary Decision Memorandum.

² See Memorandum, “Extension of Deadline for the Final Results of Countervailing Duty Administrative Review; 2021,” dated September 22, 2023.

³ See Memorandum, “Second Extension of Deadline for Final Results of Countervailing Duty Administrative Review; 2021,” dated December 15, 2023.

⁴ See Petitioner's Letter, “Case Brief of GEO Specialty Chemicals, Inc.,” dated July 31, 2023.

⁵ See GOI's Letter, “Case Brief Submission on behalf of Government of India (GOI),” dated July 31, 2023.

⁶ See Kumar's Letter, “Case Brief,” dated July 31, 2023.

⁷ See Petitioner's Letter, “Rebuttal Brief of Geo Specialty Chemicals, Inc.,” dated August 7, 2023.

⁸ See Kumar's Letter, “Rebuttal Brief,” dated August 7, 2023.

⁹ See Memorandum, “Issues and Decision Memorandum for the Final Results of the Countervailing Duty Administrative Review of Glycine from India; 2021,” dated concurrently with, and hereby adopted by, this notice (Issues and Decision Memorandum).

Scope of the Order ¹⁰

¹⁰ See Glycine from India and the People's Republic of China: Countervailing Duty Orders, 84 FR 29173 (June 21, 2019) (Order).

The merchandise covered by the Order is glycine from India. For a complete description of the scope of the Order, see the Issues and Decision Memorandum.¹¹

¹¹ See Issues and Decision Memorandum at 2.

Analysis of Comments Received

All issues raised by interested parties in their case and rebuttal briefs are addressed in the Issues and Decision Memorandum. A list of the topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received from interested parties and of the record, we made certain changes from the Preliminary Results. For a full description of these revisions, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.¹² For a full description of the methodology underlying Commerce's conclusions, including any determination that relied upon the use of adverse facts available (AFA) pursuant to sections 776(a) and (b) of the Act, see the Issues and Decision Memorandum.

¹² See sections 771(5)(B) and (D) of the Act regarding financial contribution; section 771(5)(E) of the Act regarding benefit; and section 771(5A) of the Act regarding specificity.

Companies Not Selected for Individual Review

In this review, the final rate calculated for Kumar, the mandatory respondent, is not zero, de minimis, or based entirely on facts available. Therefore, consistent with section 705(c)(5)(A) of the Act, for the companies that were not selected as a mandatory respondent, Commerce is basing the final subsidy rate for non-examined companies on the final subsidy rate calculated for Kumar.

Final Results of Administrative Review

For the period January 1, 2021, through December 31, 2021, we determine that the following net countervailable subsidy rates exist:

Company | Subsidy rate (percent ad valorem)
Kumar Industries, India ¹³ | 7.24
Rudraa International | 7.24
Rexisize Rasayan Industries | 7.24

Disclosure

¹³ Commerce continues to find that Kumar is cross-owned with Advance Chemical Corporation; therefore, the same subsidy rate applies to both companies. See Issues and Decision Memorandum at 4.

Commerce intends to disclose to the calculations performed in connection with the final results of review within five days of a public announcement or, if there is no public announcement, within five days of the date of publication of the notice of final results in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce also intends to instruct CBP to collect cash deposits of estimated countervailing duties in the amounts indicated above on shipments of subject merchandise entered, or withdrawn from warehouse, for consumption on or after the date of publication of the final results of this administrative review. For all non-reviewed firms subject to the Order, Commerce will instruct CBP to continue to collect cash deposits of estimated countervailing duties at the most recent company-specific or all-others rate applicable to the company, as appropriate. These cash deposit requirements, effective upon publication of these final results, shall remain in effect until further notice.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act and 19 CFR 351.221(b)(5).

Dated: December 26, 2023.
Abdelali Elouaradia,
Deputy Assistant Secretary for Enforcement and Compliance.

Appendix

List of Topics Discussed in the Issues and Decision Memorandum

I. Summary

II. Background

III. Scope of the Order

IV. Rate for Non-Examined Companies

V. Subsidies Valuation Information

VI. Interest Rates, Discount Rates, and Benchmarks

VII. Analysis of Programs

VIII. Discussion of the Issues

Comment 1: Whether Commerce Should Apply Adverse Facts Available to Kumar

Comment 2: Whether the Duty Drawback Program is Countervailable

Comment 3: Whether Commerce Correctly Found Interest Equalization Scheme on Pre- and Post-Shipment Rupee Export Credit and Pre- and Post-Shipment Finance to be Separate Countervailable Programs

Comment 4: Whether Commerce Should Adjust the Calculations for the Interest Equalization Scheme on Pre- and Post-Shipment Rupee Export Credit and Pre- and Post-Shipment Finance

Comment 5: Whether Commerce Should Use the Petitioner's Benchmarks for the Interest Equalization Scheme on Pre- and Post-Shipment Rupee Export Credit and Pre- and Post-Shipment Finance Programs

Comment 6: Whether the State Government of Gujarat Conferred a Benefit to Kumar through its Provision of Land for Less than Adequate Remuneration

IX. Recommendation

[FR Doc. 2023-28842 Filed 12-29-23; 8:45 am]

BILLING CODE 3510-DS-P